DEPARTMENT OF TRANSPORTATION

Federal Aviation Administration

14 CFR Part 39

[Docket No. FAA-2011-0721; Directorate Identifier 2010-NM-217-AD; Amendment 39-16861; AD 2011-23-10]

RIN 2120-AA64

Airworthiness Directives; ATR-GIE Avions de Transport Régional Airplanes

AGENCY: Federal Aviation Administration (FAA), Department of Transportation (DOT).

ACTION: Final rule.

SUMMARY: We are adopting a new airworthiness directive (AD) for certain Model ATR42 and ATR72 airplanes. This AD results from mandatory continuing airworthiness information (MCAI) originated by an aviation authority of another country to identify and correct an unsafe condition on an aviation product. The MCAI describes the unsafe condition as:

One ATR operator has experienced in-flight elevator travel limitations with unusual effort being necessary on pitch axis to control the aeroplane, while the “pitch mistrim” message appeared on the ADU [advisory display unit] display. The elevators seemed to be jammed.

During the post-flight inspection, it was discovered that the LH [left-hand] elevator lower stop assembly was broken at the level of the angles, which may have prevented the elevator to respond normally to the flight control input.

This condition, if not detected and corrected, could lead to reduced control of the aeroplane.

* * * * *

We are issuing this AD to require actions to correct the unsafe condition on these products.

DATES: This AD becomes effective December 15, 2011.

The Director of the Federal Register approved the incorporation by reference of certain publications listed in this AD as of December 15, 2011.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on August 5, 2011 (76 FR 47520). That NPRM proposed to correct an unsafe condition for the specified products. The MCAI states:

One ATR operator has experienced in-flight elevator travel limitations with unusual effort being necessary on pitch axis to control the aeroplane, while the “pitch mistrim” message appeared on the ADU display. The elevators seemed to be jammed.

During the post-flight inspection, it was discovered that the LH elevator lower stop assembly was broken at the level of the angles, which may have prevented the elevator to respond normally to the flight control input.

This condition, if not detected and corrected, could lead to reduced control of the aeroplane.

For the reasons described above, and as a precautionary measure, this [EASA] AD requires a one-time [general visual and detailed] inspection [for damaged angles] of the elevator hinge fittings and the reporting of all findings. Depending on the results, further action may be considered.

Corrective actions also include replacement of damaged angles with serviceable parts; and a detailed inspection of adjacent areas for damage, and repair if necessary. You may obtain further information by examining the MCAI in the AD docket.

Comments

We gave the public the opportunity to participate in developing this AD. We received no comments on the NPRM (76 FR 47520), August 5, 2011) or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 86 products of U.S. registry. We also estimate that it will take about 4 work-hours per product to comply with the basic requirements of this AD. The average labor rate is $85 per work-hour. Based on these figures, we estimate the cost of this AD to the U.S. operators to be $29,240, or $340 per product.

In addition, we estimate that any necessary follow-on actions would take about 60 work-hours and require parts costing $960, for a cost of $6,060 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 47520, August 5, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-23-10 ATR-GIE Avions de Transport Régional: Amendment 39-16861. Docket No. FAA-2011-0721; Directorate Identifier 2010-NM-217-AD.

Effective Date

(a) This airworthiness directive (AD) becomes effective December 15, 2011.

Affected ADs

(b) None.

Applicability

(c) This AD applies to ATR-GIE Avions de Transport Régional Model ATR42-200, -300, -320, and -500 airplanes, all manufacturer serial numbers (MSN) up to MSN 643 inclusive; and Model ATR72-101, -102, -201, -202, -211, -212, and -212A airplanes, all MSNs up to MSN 728 inclusive; certificated in any category.

Subject

(d) Air Transport Association (ATA) of America Code 55: Stabilizers.

Reason

(e) The mandatory continuing airworthiness information (MCAI) states:

One ATR operator has experienced in-flight elevator travel limitations with unusual effort being necessary on pitch axis to control the aeroplane, while the “pitch mistrim” message appeared on the ADU [advisory display unit] display. The elevators seemed to be jammed.

During the post-flight inspection, it was discovered that the LH [left-hand] elevator lower stop assembly was broken at the level of the angles, which may have prevented the elevator to respond normally to the flight control input.

This condition, if not detected and corrected, could lead to reduced control of the aeroplane.

* * * * *

Compliance

(f) You are responsible for having the actions required by this AD performed within the compliance times specified, unless the actions have already been done.

Actions

(g) Within 6 months after the effective date of this AD, perform a general visual inspection of the inboard hinge fitting area and a detailed inspection of lower stop angles of the inboard hinge fittings on both LH and right-hand (RH) elevators, in accordance with the Accomplishment Instructions of Avions de Transport Régional Service Bulletin ATR42-55-0014, dated May 11, 2010; or Avions de Transport Régional Service Bulletin ATR72-55-1006, dated May 11, 2010; as applicable.

(1) If any damaged angle is found during the inspection required by paragraph (g) of this AD, before further flight, replace the damaged angles with serviceable parts and accomplish a detailed inspection of the adjacent areas to detect any damage, in accordance with the Accomplishment Instructions of Avions de Transport Régional Service Bulletin ATR42-55-0014, dated May 11, 2010; or Avions de Transport Régional Service Bulletin ATR72-55-1006, dated May 11, 2010; as applicable.

(2) If any damage is detected in adjacent areas during the inspection required by paragraph (g)(1) of this AD, before further flight, repair the damage using a method approved by either the Manager, International Branch, ANM-116, Transport Airplane Directorate, FAA; or European Aviation Safety Agency (EASA) (or its delegated agent).

(h) Submit a report of the findings (damaged angles found on the LH and RH side elevator) of the inspection required by paragraph (g) of this AD to ATR Engineering, Service Bulletin Group, 1 Allee Pierre Nadot, 31712 Blagnac Cedex, France, at the applicable time specified in paragraph (h)(1) or (h)(2) of this AD. The report must include the MSN, accomplishment date, registration number, number of flights, flight hours, inspection results, and performed actions. In addition, return any damaged lower stop angles to ATR Engineering, Service Bulletin Group, 1 Allee Pierre Nadot, 31712 Blagnac Cedex, France.

(1) If the inspection was done on or after the effective date of this AD: Submit the report within 30 days after the inspection.

(2) If the inspection was done before the effective date of this AD: Submit the report within 30 days after the effective date of this AD.

FAA AD Differences

Note 1: This AD differs from the MCAI and/or service information as follows: No differences.

Other FAA AD Provisions

(i) The following provisions also apply to this AD:

(1) Alternative Methods of Compliance (AMOCs): The Manager, International Branch, ANM-116, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

Related Information

(j) Refer to MCAI EASA Airworthiness Directive 2010-0138, dated July 1, 2010; Avions de Transport Régional Service Bulletin ATR42-55-0014, dated May 11, 2010; and Avions de Transport Régional Service Bulletin ATR72-55-1006, dated May 11, 2010; for related information.

Material Incorporated by Reference

(k) You must use Avions de Transport Régional Service Bulletin ATR42-55-0014, dated May 11, 2010; or Avions de Transport Régional Service Bulletin ATR72-55-1006, dated May 11, 2010; as applicable; to do the actions required by this AD, unless the AD specifies otherwise.

(1) The Director of the Federal Register approved the incorporation by reference of this service information under 5 U.S.C. 552(a) and 1 CFR part 51.

(2) For service information identified in this AD, contact ATR—GIE Avions de Transport Régional, 1, Allée Pierre Nadot, 31712 Blagnac Cedex, France; telephone +33 (0) 5 62 21 62 21; fax +33 (0) 5 62 21 67 18; email continued.airworthiness@atr.fr; Internet http://www.aerochain.com.

(3) You may review copies of the service information at the FAA, Transport Airplane Directorate, 1601 Lind Avenue SW., Renton, Washington. For information on the availability of this material at the FAA, call (425) 227-1221.

(4) You may also review copies of the service information that is incorporated by reference at the National Archives and Records Administration (NARA). For information on the availability of this material at NARA, call (202) 741-6030, or go to: http://www.archives.gov/federal_register/code_of_federal_regulations/ibr_locations.html.

Issued in Renton, Washington, on October 27, 2011.
Kalene C. Yanamura,
Acting Manager, Transport Airplane Directorate, Aircraft Certification Service.

[FR Doc. 2011-28752 Filed 11-9-11; 8:45 am]

BILLING CODE 4910-13-P